DEPARTMENT OF COMMERCE

National Oceanic and Atmospheric Administration

[I.D. 101304D]

Proposed Information Collection; Comment Request; Northeast (NE) Multispecies Framework Adjustment 40-A Permit Information Data Collection

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 17, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Douglas W. Christel, National Marine Fisheries Service, 1 Blackburn Drive, Gloucester, MA 01930; telephone: 978-281-9141.

SUPPLEMENTARY INFORMATION:

I. Abstract

The proposed rule for Framework Adjustment 40-A (Framework 40-A) to the NE Multispecies Fishery Management Plan (FMP) was published in the Federal Register on September 14, 2004 (69 FR 55388). Framework 40-A was developed by the New England Fishery Management Council (Council) to provide additional opportunities for vessels in the fishery to target relatively healthy stocks of groundfish in order to mitigate the economic and social impacts resulting from the effort reductions promulgated by Amendment 13 to the FMP (69 FR 22906, April 27, 2004), and to harvest groundfish stocks at levels that approach optimum yield. Framework 40-A proposes to create three programs to allow vessels to use Category B Days-at-Sea (DAS) (both Regular and Reserve) to target healthy stocks: (1) Regular B DAS Pilot Program; (2) Closed Area (CA) I Hook Gear Haddock Special Access Program (SAP); and (3) Eastern U.S./Canada Haddock SAP Pilot Program.

In addition, Framework 40-A proposes to relieve an Amendment 13 restriction that currently prohibits vessels from fishing both in the Western U.S./Canada Area, and outside that area on the same trip.

The information collection for the provisions within Framework 40-A was approved by the Office of Management and Budget in an emergency clearance on September 22, 2004. This information collection submission included automated vessel monitoring system (VMS) polling of vessel position; observer notifications; area and DAS category declarations via VMS; when fishing on a Category B DAS, declaration of a DAS category “flip” to a Category A DAS when a vessel exceeds the possession limit; and a declaration to participate in the Closed Area I Hook Gear Haddock SAP.

II. Method of Collection

Automated VMS polling of vessel position would be required of all vessels intending to participate in the programs proposed under Framework 40-A. The vessel operator would not be required to submit this information manually. Vessel owners would be charged a monthly operational fee for VMS usage. The area to be fished and the category of DAS to be used would be required to be declared prior to leaving port on a trip in which a vessel intends to participate in one of the programs proposed in Framework 40-A. A DAS category “flip” would be required if a vessel exceeds the possession limit specified for several species of concern when fishing on a Category B DAS. Reporting this information via VMS is required to monitor: (1) DAS usage; (2) compliance with the provisions of the specific programs proposed in Framework 40-A; and (3) compliance with the closed area regulations.

Notification of the intent to participate in any of the programs proposed under Framework 40-A prior to each trip, as well as the declaration of a vessel's intent to participate in the Closed Area I Hook Gear Haddock SAP, would occur via a telephone call to the contracting company tasked with providing observer coverage. This information is required to determine the necessary observer coverage for these programs.

III. Data

OMB Number: 0648-0501.

Form Number: None.

Type of Review: Regular submission.

Affected Public: Business or other for profit organizations; and individuals or households.

Estimated Number of Respondents: 997.

Estimated Time Per Response: Each automated VMS positional poll requires an estimated 5 seconds per response. Declarations of the area to be fished, DAS to be used, and DAS “flips” via VMS would take approximately 5 minutes per declaration. The observer notification prior to each trip is estimated to take 2 minutes per notification. Finally, declaring a vessel's intent to participate in the Closed Area I Hook Gear Haddock SAP is expected to take approximately 2 minutes per declaration.

Estimated Total Annual Burden Hours: The information collection submission for Framework 40-A included revisions to previously approved information collections for Amendment 13. As a result, the estimated total annual burden hours for the provisions contained within Framework 40-A information collection submission amount to a reduction of 2,094 hours from previous submissions.

Estimated Total Annual Cost to Public: $1,181,264.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 12, 2004.
Gwellnar Banks,
Management Analyst, Office of the Chief Information Officer.

[FR Doc. 04-23284 Filed 10-15-04; 8:45 am]

BILLING CODE 3510-22-S